DEPARTMENT OF HEALTH AND HUMAN SERVICES

Centers for Disease Control and Prevention

[CDC-2017-0028, Docket Number NIOSH-290]

Draft Current Intelligence Bulletin: The Occupational Exposure Banding Process: Guidance for the Evaluation of Chemical Hazards; Reopening of Comment Period

AGENCY: National Institute for Occupational Safety and Health (NIOSH) of the Centers for Disease Control and Prevention (CDC), Department of Health and Human Services (HHS).

ACTION: Notice and reopening of comment period.

SUMMARY: On March 15, 2017 the National Institute for Occupational Safety and Health (NIOSH) of the Centers for Disease Control and Prevention (CDC), published a notice in the Federal Register [82 FR 13809] announcing the availability of a draft Current Intelligence Bulletin entitled The Occupational Exposure Banding Process: Guidance for the Evaluation of Chemical Hazards for public comment. NIOSH convened a public meeting in Cincinnati, Ohio on Tuesday, May 23, 2017 to discuss the document. The draft document can be found at www.regulations.gov. by entering CDC-2017-0028 in the search field and clicking “Search.” Written comments were to be received by June 13, 2017. In response to a request from an interested party, NIOSH is announcing the reopening of the comment period.

DATES: Electronic or written comments must be received by July 21, 2017.

FOR FURTHER INFORMATION CONTACT: Melissa Seaton, NIOSH, Education and Information Division, 1090 Tusculum Avenue, MS C-32, Cincinnati, OH 45226, telephone (513) 533-8248, Fax (513) 533-8230 (not toll free numbers), email MSeaton@cdc.gov.

ADDRESSES: You may submit comments, identified by CDC-2017-0028 and Docket Number NIOSH-290, by either of the following two methods:

• Federal eRulemaking Portal: http://www.regulations.gov. Follow the instructions for submitting comments.

• Mail: National Institute for Occupational Safety and Health, NIOSH Docket Office, 1090 Tusculum Avenue, MS C-34, Cincinnati, Ohio 45226-1998.

John Howard,
Director, National Institute for Occupational Safety and Health, Centers for Disease Control and Prevention.

[FR Doc. 2017-12942 Filed 6-20-17; 8:45 am]

BILLING CODE 4163-19-P